DEPARTMENT OF EDUCATION

Closed Meeting of the National Advisory Council on Indian Education

AGENCY: National Advisory Council on Indian Education (NACIE), U.S. Department of Education.

ACTION: Notice of closed meeting.

SUMMARY: This notice sets forth the schedule and proposed agenda of an upcoming closed meeting of the National Advisory Council on Indian Education (the Council) and is intended to notify the general public. This notice also describes the functions of the Council. Notice of the Council's meetings is required under Section 10(a)(2) of the Federal Advisory Committee Act and by the Council's charter. This notice is appearing in the Federal Register less than 15 days prior to the meeting date due to scheduling conflicts and the importance of selecting a new Director for the Office of Indian Education in a timely manner.

Agenda: The Council will meet in a closed teleconference session to discuss personnel issues related to the selection of the Director for the U.S. Department of Education, Office of Indian Education. The Council will be discussing issues that relate solely to the internal personnel rules and practices of an agency. The Council is likely to disclose information of a personal nature where disclosure would constitute a clearly unwarranted invasion of personnel privacy. The discussion must therefore be held in closed session under exemptions 2 and 6 of the Government in the Sunshine Act, 5 U.S.C. 552b(c)(2) and (6).

Date and Time: December 12, 2006; 1 p.m. to 3:30 p.m., Eastern Standard Time.

Location: U.S. Department of Education, 400 Maryland Avenue, SW., Washington, DC 20202.

FOR FURTHER INFORMATION CONTACT: Peirce Hammond, Designated Federal Official, Office of Indian Education, U.S. Department of Education, 400 Maryland Avenue, SW., Washington, DC 20202. Telephone: 202-205-0687. Fax: 202-205-0310.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA. The Council submits to the Congress, not later than June 30 of each year, a report on the activities of the Council that includes recommendations the Council considers appropriate for the improvement of Federal education programs that include Indian children or adults as participants or that may benefit Indian children or adults, and recommendations concerning the funding of any such program.

Records are kept of all Council proceedings and are available for public inspection at the Office of Indian Education, United States Department of Education, Room 5C141, 400 Maryland Avenue, SW., Washington, DC 20202.

Henry L. Johnson,
Assistant Secretary for Elementary and Secondary Education.

[FR Doc. 06-9542 Filed 12-5-06; 8:45 am]

BILLING CODE 4000-01-M